DEPARTMENT OF COMMERCE

National Oceanic and Atmospheric Administration

Proposed Information Collection; Comment Request; Southeast Region Bottlenose Dolphin Conservation Outreach Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 18, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Stacey Horstman, (727) 824-5312 or Stacey.Horstman@noaa.gov.

SUPPLEMENTARY INFORMATION:

I. Abstract

This request is for a revision of a current information collection.

The objective of these surveys is to assess the level of awareness on issues related to regulations preventing feeding/harassment of wild bottlenose dolphins, which are protected under the Marine Mammal Protection Act. In particular, the surveys are designed to determine what commercial businesses and the general public know about specific regulations prohibiting feeding and harassment of bottlenose dolphins, and how they gained their knowledge and/or perceptions on the topic. The first survey was conducted in Panama City, Florida, where numerous incidences of dolphin harassment and feeding are continually documented. Revision: The intent is to use this survey in one to two other geographic areas of the southeast region that are also “hot-spots” for dolphin harassment and feeding activities to gain a similar understanding and ensure outreach messages are appropriate for intended audiences.

National Marine Fisheries Service (NMFS) will request information from local residents, tourists, and commercial businesses through a one-time survey in the geographic location identified in the revision supporting statement. This information, upon receipt, will be used to develop effective and better-targeted outreach efforts in order to enhance bottlenose dolphin conservation in the southeast United States.

II. Method of Collection

Participants voluntarily complete paper questionnaires and methods of submittal include on-site, mail, and facsimile transmission of paper forms.

III. Data

OMB Control Number: 0648-0594.

Form Number: None.

Type of Review: Regular submission (revision of a current information collection).

Affected Public: Individuals; business or other for-profits organizations.

Estimated Number of Respondents: 1,200.

Estimated Time per Response: 20 minutes.

Estimated Total Annual Burden Hours: 400.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 11, 2012.
Gwellnar Banks,
Management Analyst, Office of the Chief Information Officer.

[FR Doc. 2012-9097 Filed 4-16-12; 8:45 am]

BILLING CODE 3510-22-P